DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more individuals that have been placed on OFAC's Specially Designated Nationals and Blocked Persons List (SDN List). OFAC has determined that one or more applicable legal criteria were satisfied to place the individuals on the SDN List. All property and interests in property subject to U.S. jurisdiction of these individuals are blocked, and U.S. persons are generally prohibited from engaging in transactions with them.

DATES: See SUPPLEMENTARY INFORMATION section for applicable date(s).

FOR FURTHER INFORMATION CONTACT: OFAC: Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website (www.treasury.gov/ofac).

Notice of OFAC Action(s)

On September 18, 2020, OFAC determined that the property and interests in property subject to U.S. jurisdiction of the following individuals are blocked under the relevant sanctions authority listed below.

Individuals

1. BENAVIDES RONDON, Williams Jose; DOB 04 Apr 1981; POB Guanipa, Anzoategui, Venezuela; nationality Venezuela; Gender Male; Cedula No. V-15631775 (Venezuela) (individual) [VENEZUELA].

Designated pursuant to section 1(a)(ii)(C) of Executive Order 13692 of March 8, 2015, “Blocking Property and Suspending Entry of Certain Persons Contributing to the Situation in Venezuela,” 80 FR 12747, 3 CFR, 2015 Comp., p. 276 (E.O. 13692), as amended by Executive Order 13857 of January 25, 2019, “Taking Additional Steps To Address the National Emergency With Respect to Venezuela,” 84 FR 509 (E.O. 13857), for being a current or former official of the Government of Venezuela.

2. BUCARAN PARAGUAN, Chaim Jose, Calle Ayacucho Cruce con Calle Apure, Casa Nro. 04, Sector Pueblo Nuevo, Anaco, Anzoategui 6003, Venezuela; DOB 16 Aug 1972; POB Anaco, Anzoategui, Venezuela; nationality Venezuela; Gender Male; Cedula No. V-10998672 (Venezuela); Passport 024751597 (Venezuela) issued 03 Jul 2009 expires 02 Jul 2014 (individual) [VENEZUELA].

Designated pursuant to section 1(a)(ii)(C) of E.O. 13692, as amended by E.O. 13857, for being a current or former official of the Government of Venezuela.

3. GUTIERREZ PARRA, Jose Bernabe, Av Las Acacias entre Libertador y Andres Bello, Edf Florida Plaza Piso 2 Apt 2, Caracas, Gran Caracas 1010, Venezuela; DOB 21 Dec 1952; POB Caicara del Orinoco, Bolívar, Venezuela; nationality Venezuela; Gender Male; Cedula No. V-1565144 (Venezuela); Passport 068637114 (Venezuela) issued 04 Mar 2013 expires 03 Mar 2018 (individual) [VENEZUELA].

Designated pursuant to section 1(a)(ii)(A)(1) of E.O. 13692, as amended by E.O. 13857, for being responsible for or complicit in, or responsible for ordering, controlling, or otherwise directing, or having participated in, directly or indirectly, actions or policies that undermine democratic processes or institutions.

4. LUCES OSORIO, Guillermo Antonio, Urbanizacion Base Aragua, 2da Avenida, Edificio Piedra Pintada, Torre B, PH 2B, Maracay, Aragua 2101, Venezuela; DOB 23 Oct 1970; POB Aragua, Venezuela; nationality Venezuela; Gender Male; Cedula No. V-9656271 (Venezuela); Passport 095146311 (Venezuela) issued 13 Jun 2014 expires 12 Jun 2019 (individual) [VENEZUELA].

Designated pursuant to section 1(a)(ii)(C) of E.O. 13692, as amended by E.O. 13857, for being a current or former official of the Government of Venezuela.

5. PONENTE PARRA, Miguel Antonio Jose, Urbanizacion Los Sauces II, Calle 6, Casa N D-19, San Felipe, Yaracuy 3201, Venezuela; DOB 05 Feb 1975; POB San Felipe, Yaracuy, Venezuela; nationality Venezuela; Gender Male; Cedula No. V-12277477 (Venezuela); Passport 066562397 (Venezuela) issued 17 Jan 2013 expires 16 Jan 2018 (individual) [VENEZUELA].

Designated pursuant to section 1(a)(ii)(C) of E.O. 13692, as amended by E.O. 13857, for being a current or former official of the Government of Venezuela.

Dated: September 18, 2020.
Andrea Gacki,
Director, Office of Foreign Assets Control, U.S. Department of the Treasury.

[FR Doc. 2020-21932 Filed 10-2-20; 8:45 am]

BILLING CODE 4810-AL-P